DEPARTMENT OF COMMERCE

International Trade Administration

[A-549-502]

Circular Welded Carbon Steel Pipes and Tubes From Thailand: Preliminary Results of Antidumping Duty Administrative Review; 2012-2013

AGENCY: Enforcement and Compliance, International Trade Administration, Department of Commerce.

SUMMARY: The Department of Commerce (the Department) is conducting an administrative review of the antidumping duty order on circular welded carbon steel pipes and tubes from Thailand. This review covers two producers or exporters of the subject merchandise, Saha Thai Steel Pipe (Public) Company, Ltd. (Saha Thai), and Pacific Pipe Company Limited (Pacific Pipe). The period of review (POR) is March 1, 2012, through February 28, 2013. The Department preliminarily determines that Saha Thai sold subject merchandise at less than normal value (NV), and that Pacific Pipe had no shipments of subject merchandise during the POR. The preliminary results are listed below in the section titled “Preliminary Results of Review.” Interested parties are invited to comment on these preliminary results.

DATES: Effective Date: April 24, 2014.

FOR FURTHER INFORMATION CONTACT: Jason Rhoads, AD/CVD Operations, Office VII, Enforcement and Compliance, International Trade Administration, U.S. Department of Commerce, 14th Street and Constitution Avenue NW., Washington, DC 20230; telephone: (202) 482-0123.

SUPPLEMENTARY INFORMATION:

Scope of the Order

The products covered by the antidumping order are certain circular welded carbon steel pipes and tubes from Thailand. The subject merchandise has an outside diameter of 0.375 inches or more, but not exceeding 16 inches. The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for convenience and purposes of U.S. Customs and Border Protection (CBP), the written description of the merchandise subject to the order, available in the Preliminary Decision Memorandum,¹ is dispositive.

¹ See Memorandum to Paul Piquado, Assistant Secretary for Enforcement and Compliance, from James Maeder, Director, Office II, Antidumping and Countervailing Duty Operations, entitled “Decision Memorandum for the Preliminary Results of Antidumping Duty Administrative Review: Circular Welded Carbon Steel Pipes and Tubes From Thailand; 2012-2013 Administrative Review” (Preliminary Decision Memorandum), dated concurrently with this notice.

Preliminary Determination of No Shipments

Pacific Pipe, in a letter dated June 17, 2013, reported that it made no shipments or sales of subject merchandise during the POR. Based on the certification of Pacific Pipe and our analysis of CBP information, we preliminarily determine that Pacific Pipe had no shipments during the POR. However, the Department finds that it is not appropriate to rescind the review with respect to Pacific Pipe, but rather to complete the review with respect to Pacific Pipe and issue appropriate instructions to CBP based on the final results of this review.²

² See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Methodology

The Department conducted this review in accordance with section 751(a)(2) of the Tariff Act of 1930, as amended (the Act). Export price is calculated in accordance with section 772 of the Act. NV is calculated in accordance with section 773 of the Act. In accordance with section 773(b) of the Act, we disregarded certain sales by Saha Thai in the home market which were made at below-cost prices and which were otherwise outside of the ordinary course of trade. To determine the appropriate comparison method, the Department applied a differential pricing analysis, and preliminarily determined to use the average-to-transaction method for all U.S. sales to calculate the weighted-average dumping margin for Saha Thai.

For a full description of the methodology underlying these preliminary results, see the Preliminary Decision Memorandum, which is hereby adopted by this notice. The Preliminary Decision Memorandum is a public document and is on file electronically via Enforcement and Compliance's Antidumping and Countervailing Duty Centralized Electronic Service System (IAACCESS). IAACCESS is available to registered users at http://iaaccess.trade.gov, and is available to all parties in the Central Records Unit, room 7046 of the main Department of Commerce building. In addition, a complete version of the Preliminary Decision Memorandum can be accessed directly on the Internet at http://www.trade.gov/enforcement/. The signed Preliminary Decision Memorandum and the electronic versions of the Preliminary Decision Memorandum are identical in content.

Preliminary Results of Review

As a result of our review, we preliminarily determine the following weighted-average dumping margins exist for the period March 1, 2012, through February 28, 2013.

Producer/exporter | Weighted- average dumping margin (percent)
Saha Thai Steel Pipe (Public) Company, Ltd. | 1.03
Pacific Pipe Company Limited | (*)
* No shipments or sales subject to this review. The firm has an individual rate from a prior segment of the proceeding in which the firm had shipments or sales.

Disclosure and Public Comment

We will disclose the calculations used in our analysis to parties in this review within five days of the date of publication of this notice in accordance with 19 CFR 351.224(b). Any interested party may request a hearing within 30 days of the publication of this notice in the Federal Register in accordance with 19 CFR 310(c).³ If a hearing is requested, the Department will notify interested parties of the hearing schedule.

³ Parties requesting a hearing or submitting written comments must submit such documents pursuant to the Department's e-filing regulations. See 19 CFR 351.303.

Interested parties are invited to comment on the preliminary results of this review. Unless extended by the Department, interested parties must submit case briefs within 30 days of the date of publication of this notice. Rebuttal briefs, which must be limited to issues raised in the case briefs, must be filed not later than five days after the time limit for filing case briefs.⁴ Parties who submit case briefs or rebuttal briefs in this review are requested to submit with each argument: (1) A statement of the issue, (2) a brief summary of the argument, and (3) a table of authorities. Executive summaries should be limited to five pages total, including footnotes.⁵

⁴ See 19 CFR 351.309(c) and (d).

⁵ Id.

We intend to issue the final results of this administrative review, including the results of our analysis of issues raised in the written comments, within 120 days of publication of these preliminary results in the Federal Register, unless otherwise extended.⁶

⁶ See section 751(a)(3)(A) of the Act.

Assessment Rates

Upon completion of this administrative review, the Department shall determine and CBP shall assess antidumping duties on all appropriate entries. If Saha Thai's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where Saha Thai did not report the entered value for its sales, we will calculate importer-specific, per-unit duty assessment rates. Where an importer-specific assessment rate is zero or de minimis, we will instruct CBP to liquidate the appropriate entries without regard to antidumping duties in accordance with 19 CFR 351.106(c)(2). If Saha Thai's weighted-average dumping margin is zero or de minimis in the final results of this review, we will instruct CBP to liquidate the appropriate entries without regard to antidumping duties in accordance with the Final Modification for Reviews.⁷

⁷ See Antidumping Proceedings: Calculation of the Weighted-Average Dumping Margin and Assessment Rate in Certain Antidumping Proceedings: Final Modification, 77 FR 8101, 8102 (February 14, 2012) (Final Modification for Reviews) (“Where the weighted-average margin of dumping for the exporter is determined to be zero or de minimis, no antidumping duties will be assessed.”).

The Department clarified its “automatic assessment” regulation on May 6, 2003.⁸ This clarification applies to entries of subject merchandise during the POR produced by Saha Thai for which it did not know its merchandise was destined for the United States. In such instances, we will instruct CBP to liquidate unreviewed entries at the all-others rate if there is no rate for the intermediate company(ies) involved in the transaction.

⁸ For a full discussion of this clarification, see Antidumping and Countervailing Duty Proceedings: Assessment of Antidumping Duties, 68 FR 23954 (May 6, 2003) (Assessment Policy Notice).

Consistent with the Assessment Policy Notice, if we continue to find that Pacific Pipe had no shipments of subject merchandise to the United States in the final results of this review, we intend to instruct CBP to liquidate all existing entries of merchandise produced by Pacific Pipe and exported by other parties at the all-others rate.

We intend to issue instructions to CBP 15 days after publication of the final results of this review.

Cash Deposit Requirements

The following cash deposit requirements will be effective for all shipments of circular welded carbon steel pipes and tubes from Thailand entered, or withdrawn from warehouse, for consumption on or after the date of publication of the final results of this administrative review, as provided for by section 751(a)(2)(C) of the Act: (1) The cash deposit rate for the company under review will be equal to the weighted-average dumping margin established in the final results of this review (except, if that rate is zero or de minimis, then no cash deposit will be required); (2) for previously reviewed or investigated companies not listed above in the Preliminary Results of Review, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 15.67 percent established in the less-than-fair-value investigation.⁹ These deposit requirements, when imposed, shall remain in effect until further notice.

⁹ See Order.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative review are issued and published in accordance with sections 751(a)(1) and 777(i)(1) of the Act.

Dated: April 17, 2014.
Paul Piquado,
Assistant Secretary for Enforcement and Compliance.

Appendix—List of Topics Discussed in the Preliminary Decision Memorandum:

I. Summary

II. Background

III. Scope of the Order

IV. Preliminary Determination of No Shipments

V. Comparisons to Normal Value

VI. Product Comparisons

VII. Discussion of Methodology

A. Determination of Comparison Method

B. Results of the Differential Pricing Analysis

C. Date of Sale

D. Export Price

E. Normal Value

F. Currency Conversion

[FR Doc. 2014-09361 Filed 4-23-14; 8:45 am]

BILLING CODE 3510-DS-P